DEPARTMENT OF DEFENSE

Department of the Army, Corps of Engineers

Intent To Prepare an Environmental Impact Statement for the Port of Gulfport Expansion Project, Harrison County, MS (Department of the Army Permit Number SAM-2009-1768-DMY)

AGENCY: U.S. Army Corps of Engineers, DoD.

ACTION: Notice of intent.

SUMMARY: The U.S. Army Corps of Engineers, Mobile District (USACE) announces its intent to prepare an Environmental Impact Statement (EIS) to assess the potential environmental impacts associated with the construction and operation of a project proposed by the Mississippi State Port Authority (MSPA). As part of the NEPA process, the Mississippi Development Authority (MDA) will be a cooperating agency in the preparation of the EIS. The National Marine Fisheries Service (NMFS) has expressed interest in acting as a cooperating agency in the preparation of the EIS.

The proposed project as described in the application filed on March 17, 2010, proposed filling approximately 700 acres of open-water benthic habitat. Since submittal of the application, the proposed project footprint has been modified by the MSPA to reduce the overall potential fill required for implementation and to not include any impacts to the Gulfport Harbor Federal Navigation Channel or Turning Basin. The currently proposed project involves filling of up to 400 acres of open-water bottom in the Mississippi Sound, the construction of wharfs, bulkheads, terminal facilities, container storage areas, intermodal container transfer facilities, dredging and dredged material disposal and infrastructure, and construction of a breakwater of approximately 4,000 linear feet. The proposed expanded port facility will be elevated 25 feet above sea level to provide protection against future tropical storm surge events.

The EIS will evaluate the potential impacts of the proposed project, connected actions, and alternatives. The EIS will also assist the USACE in deciding whether to issue a Department of the Army permit.

The purpose of this Notice of Intent (NOI) is to inform and educate the public of the proposed project; invite public participation in the EIS process; announce the plans for a public scoping meeting; solicit public comments for consideration in establishing the scope and content of the EIS; and provide notice of potential impacts to open-water benthic habitats.

DATES: A scoping meeting will be held on March 31, 2011. Comments will be accepted in written format at the scoping meeting or via mail/e-mail until April 11, 2011, to ensure consideration. Late comments will be considered to the extent practicable.

ADDRESSES: The scoping meeting will be held at the Fleming Education Center Auditorium at the University of Southern Mississippi's Gulf Park Campus, 730 East Beach Boulevard, Long Beach, Mississippi. Written comments regarding the proposed EIS scope should be addressed to Mr. Damon M. Young, P.G. USACE, Mobile District, Post Office Box 2288, Mobile, Alabama 36628. Individuals who would like to electronically provide comments should contact Mr. Young by electronic mail: port.gulfporteis@usace.army.mil.

FOR FURTHER INFORMATION CONTACT: For information about this project, to be included on the mailing list for future updates and meeting announcements, or to receive a copy of the DRAFT EIS when it is issued, contact Damon M. Young, P.G., at the USACE at (251) 690-2658 or the address provided above. Mr. Ewing Milam, at the MDA can also be contacted for additional information at P.O. Box 849, Jackson, Mississippi, 39205-0849, telephone 601.359.2157 or by electronic mail at emilam@mississippi.org.

SUPPLEMENTARY INFORMATION: 1. Background: The Gulfport Harbor Navigation Project was adopted by the River and Harbors Act approved on July 3, 1930 (House Document Number 692, 69th Congress, 2nd session) and the River and Harbors Act approved on June 30, 1948 (House Document Number 112, 81st Congress, 1st session). Construction of the existing Gulfport Harbor commenced in 1932 and was completed in 1950. Authorization to conduct improvements to the existing harbor was issued in the Fiscal Year 1985 Supplemental Appropriations Act (Public Law 99-88). The Water Resources Development Acts (WRDAs) 1986 and 1988 further modified the previous authorization to cover widening and deepening and thin-layer disposal, respectively. The authorized deepening was completed in 1993. Currently, there is an ongoing Federal action to widen the channel to the Federally authorized dimensions of 300 feet in the Mississippi Sound Channel and 400 feet in the Bar Channel. A Department of the Army Permit MS96-02828-U was issued in 1998 authorizing an 84-acre expansion to fill the West Pier to construct new tenant terminals and infrastructure. Phases I and II are currently under construction. Phase III is expected to begin in late 2011.

On August 29, 2005, Hurricane Katrina made landfall on the Mississippi Gulf Coast, resulting in one of the most significant natural disasters in the United States. The Port of Gulfport was severely impacted by the storm. The electrical power supply, roads, water, sewer, rail, small craft harbor fendering systems, navigational aids, and lighting and security systems were all destroyed or damaged beyond repair. According to the MSPA, the Port is currently operational at this time but it is not capable of withstanding another major hurricane without significant rehabilitation.

2. Location: The proposed Port of Gulfport Expansion Project is located in the City of Gulfport, Harrison County, Mississippi. The proposed project is approximately 80 miles west of Mobile, Alabama, and 80 miles east of New Orleans, Louisiana. The Port encompasses approximately 184 acres and is located within 5 miles of the Gulf Intracoastal Waterway (GIWW) and approximately 7 miles south of Interstate Highway 10.

3. Work: The proposed project involves filling of up to 400 acres of open-water bottom in the Mississippi Sound, the construction of wharfs, bulkheads, terminal facilities, container storage areas, intermodal container transfer facilities, dredging and dredged material disposal and infrastructure, construction of a breakwater of approximately 4,000 linear feet, and may include additional improvements identified at the public scoping meeting. The proposed expanded port facility will be elevated 25 feet above sea level to provide protection against future tropical storm surge events. A Department of the Army permit is required for the proposed project, pursuant to Section 404 of the Clean Water Act (33 U.S.C. 1251), Section 10 of the River and Harbors Act (33 U.S.C. 403), and Section 103 of the Marine Protection, Research, and Sanctuaries Act (33 U.S.C. 1401-1445, 16 U.S.C. 1431 et seq., also 33 U.S.C. 1271).

An Environmental Impact Statement (EIS) will be prepared pursuant to the National Environmental Policy Act (NEPA) of 1969, as amended (42 U.S.C. 4321 et seq.), and the Council on Environmental Quality NEPA regulations (40 CFR parts 1500-1508) to assess the potential environmental impacts associated with the construction and operation of a project proposed by the Mississippi State Port Authority (MSPA).

4. Need: According to the MSPA, this project will enhance Mississippi's standing in the global economy by repositioning the Port into a sustainable, world-class maritime facility for future generations. This project is needed to expand the Port's current footprint, which will include the construction of wharfs, bulkheads, terminal facilities, container storage areas, intermodal container transfer facilities, dredging and dredged material disposal and infrastructure. Specific alternatives will be developed as part of the EIS process and feedback provided during project scoping.

5. Affected Environment: Environmental characteristics that may be affected by the proposed project include geological, chemical, biological, physical, socioeconomic, and commercial and recreational activities. Offshore, the navigation channel extends 20 miles south into the Gulf of Mexico, passing close to the western end of Ship Island. On-shore, the regional environment is characterized as Coastal Lowlands, and the shore area, where not developed, consists typically of gently undulating swampy plains. The beach area is man-made and bordered by constructed seawalls. The existing Port, as part of the man-made environment of Gulfport, is constructed on fill material. The Gulfport area is well developed. Beyond the seawalls are extensive commercial and residential developments. The near-shore area is known for its valuable resources as a productive fishery and is also utilized extensively for commercial and recreational shipping and boating.

6. Applicable Environmental Laws and Policies: The proposed project could result in both beneficial and negative environmental impacts. These impacts will be evaluated in the EIS in accordance with applicable environmental laws and policies, which include NEPA; WRDA; Endangered Species Act (ESA); Clean Water Act; Clean Air Act; U.S. Fish and Wildlife Coordination Act; National Historic Preservation Act; Coastal Barrier Resources Act; Magnuson-Stevens Fishery Conservation and Management Act; Coastal Zone Management Act; Marine, Protection, Research, and Sanctuaries Act; Rivers and Harbors Act; National Marine Sanctuaries Act; Fishery Conservation Act; Marine Mammal Protection Act; Executive Order 12898, Environmental Justice in Minority Populations and Low-Income Populations; Executive Order 13045, Protection of Children from Environmental Health Risks and Safety Risk (among other Executive Orders); and Ports and Waterways Safety Act.

7. Preliminary Identification of Environmental Issues: The following list of nine environmental issues has been tentatively identified for analysis in the EIS. This list, which was developed during preliminary internal scoping, has been included with the permit application filed for the proposed project. This list (and information from similar projects) is neither intended to be all inclusive nor a predetermined set of potential impacts, but is presented to facilitate public comment on the planned scope of the EIS. Additions to or deletions may occur as a result of the public scoping process. Preliminary identified environmental issues include but are not limited to the loss of aquatic resource (impact to potential submerged and shoreline aquatic habitat); water quality, coastal zone consistency, hydrodynamic modeling, threatened and endangered species (including critical habitat and essential fish and shellfish habitat), air quality, alternatives, secondary and cumulative impacts, socioeconomics, and mitigation.

8. Scoping meeting: To ensure that all of the issues related to this proposed project are addressed, the USACE will conduct a public scoping meeting in which agencies, organizations, and members of the general public are invited to present comments or suggestions with regard to the range of actions, alternatives, and potential impacts to be considered in the EIS. The scoping meeting will be held at the Fleming Education Center Auditorium at the University of Southern Mississippi's Gulf Park Campus, 730 East Beach Boulevard, Long Beach, Mississippi, on March 31, 2011. The scoping meeting will begin with an informal open house from 5:30 p.m. to 6:30 p.m. followed by a formal presentation of the proposed action and a description of the NEPA process. Comments will be accepted following the formal presentation until 8 p.m. Displays and other forms of information about the proposed action will be available, and the USACE, the MSPA and the MDA personnel will be present at the informal session to discuss the proposed project and the EIS Process. The USACE invites comments on the proposed scope and content of the EIS from all interested parties. Verbal transcribers will be available at the scoping meeting to accept verbal comments following the formal presentation until 8:00 p.m. A time limit will be imposed on verbal comments.

9. DRAFT EIS: It is anticipated that a DRAFT EIS will be made available for public review in late calendar year 2011 or early 2012.

Dated: February 24, 2011.
Craig J. Litteken,
Chief, Regulatory Division.

[FR Doc. 2011-5672 Filed 3-10-11; 8:45 am]

BILLING CODE 3720-58-P